DEPARTMENT OF COMMERCE

National Oceanic and Atmospheric Administration

50 CFR Part 622

[Docket No. 060525140-6221-02; I.D. 092606D]

Fisheries of the Caribbean, Gulf of Mexico, and South Atlantic; Snapper-Grouper Fishery Off the Southern Atlantic States; Closure of the 2006 Golden Tilefish and Snowy Grouper Commercial Fisheries; Correction

AGENCY: National Marine Fisheries Service (NMFS), National Oceanic and Atmospheric Administration (NOAA), Commerce.

ACTION: Temporary rule; closure; correction.

SUMMARY: This document contains a correction to the temporary rule that closes the commercial fisheries for golden tilefish and snowy grouper in the exclusive economic zone (EEZ) of the South Atlantic that was published in the Federal Register October 12, 2006.

DATES: Effective 12:01 a.m., local time, October 23, 2006, until 12:01 a.m., local time, on January 1, 2007.

FOR FURTHER INFORMATION CONTACT: Anik Clemens, telephone 727-824-5305; fax 727-824-5308; e-mail Anik.Clemens@noaa.gov.

SUPPLEMENTARY INFORMATION:

Background

A temporary rule was published in the Federal Register on October 12, 2006 (71 FR 60076), closing the commercial fisheries for golden tilefish and snowy grouper in the EEZ of the South Atlantic from 12:01 a.m., local time, October 23, 2006, until 12:01 a.m., local time, on January 1, 2007. NMFS determined that this closure was necessary to protect the golden tilefish and snowy grouper resources.

Need for Correction

FR Doc. E6-16934, published on October 12, 2006 (71 FR 60076), contains an error in the subject heading and requires correction.

Correction

Accordingly, the temporary rule, published on October 12, 2006, at 71 FR 60076, is corrected as follows:

On page 60076, in the 3rd column, in the subject heading, remove the phrase “Reef Fish Fishery of the Gulf of Mexico” and add in its place the phrase “Snapper-Grouper Fishery Off the Southern Atlantic States”.

Authority: 16 U.S.C. 1801 et seq.

Dated: November 1, 2006.
James P. Burgess,
Acting Director, Office of Sustainable Fisheries, National Marine Fisheries Service.

[FR Doc. E6-18747 Filed 11-6-06; 8:45 am]

BILLING CODE 3510-22-S